FEDERAL COMMUNICATIONS COMMISSION

Notice of Public Information Collections Being Submitted for Review to the Office of Management and Budget

February 22, 2007.

SUMMARY: The Federal Communications Commission, as part of its continuing effort to reduce paperwork burden, invites the general public and other Federal agencies to take this opportunity to comment on the following information collections, as required by the Paperwork Reduction Act of 1995 (PRA), Public Law 104-13. An agency may not conduct or sponsor a collection of information unless it displays a current valid control number. No person shall be subject to any penalty for failing to comply with a collection of information subject to the PRA that does not display a valid control number. Comments are requested concerning: (a) Whether the proposed collections of information are necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before April 2, 2007. If you anticipate that you will be submitting comments, but find it difficult to do so within the period of time allowed by this notice, you should advise the contact listed below as soon as possible.

ADDRESSES: Direct all PRA comments to Allison E. Zaleski, Office of Mangement and Budget (OMB), Room 10236 NEOB, Washington, DC 20503, (202) 395-6466, or via fax at (202) 395-5167 or via Internet at Allison_E._Zaleski@omb.eop.gov and to Cathy Williams, Federal Communications Commission, Room 1-C823, 445 12th Street, SW., Washington, DC 20554, or via the Internet to PRA@fcc.gov. If you would like to obtain or view a copy of this information collection, you may do so by visiting the FCC's PRA Web page at: http://www.fcc.gov/omd/pra.

FOR FURTHER INFORMATION CONTACT: For additional information or copies of the information collection(s), contact Cathy Williams at (202) 418-2918 or via the Internet at PRA@fcc.gov.

SUPPLEMENTARY INFORMATION:

Note: Reviewers should note that for this entire extension-without-change notice, the number of respondents and burden hours noted under each collection are the same as the information collections approved on November 3, 2003. This notice does not reflect the larger number of potential respondents and burden hours identified in either the July 16, 2004 Notice of Proposed Rulemaking—In the Matter of Policies and Rules Governing Interstate Pay-Per Call and Other Information Services, and Toll Free Number Usage; Truth-in-Billing and Billing Format, (2004 Pay-Per-Call NPRM), CC Docket No. 98-170, and CG Docket No. 04-244, FCC 04-162—or the October 15, 2004 Federal Register notice (69 FR 61184), associated with that NPRM. The larger number of respondents and burden hours identified in those documents will not take effect until the Commission finalizes the rulemaking process and receives appropriate OMB clearances for revised information collections.

OMB Control Number: 3060-0748.

Title: Section 64.1504, Restrictions on the Use of Toll-Free Numbers.

Form Number: N/A.

Type of Review: Extension of a currently approved collection.

Respondents: Business or other for-profit entities.

Number of Respondents: 3,750.

Estimated Time per Response: 2-5 hours.

Frequency of Response: Annual and on occasion reporting requirements; Third party disclosure.

Obligation to Respond: Required to obtain or retain benefits.

Total Annual Burden: 10,500 hours.

Total Annual Cost: None.

Nature and Extent of Confidentiality: An assurance of confidentiality is not offered because this information collection does not require the collection of personal identifiable information (PII) from individuals.

Privacy Impact Assessment: No impact(s).

Needs and Uses: 47 CFR 64.1504 of the Commission's rules incorporates the requirements of Sections 228(c)(7)-(10) of the Communications Act restricting the manner in which toll-free numbers may be used to charge telephone subscribers for information services. Common carriers may not charge a calling party for information conveyed on a toll-free number call, unless the calling party: (1) Has executed a written agreement that specifies the material terms and conditions under which the information is provided, or (2) pays for the information by means of a prepaid account, credit, debit, charge, or calling card and the information service provider gives the calling party an introductory message disclosing the cost and other terms and conditions for the service. The disclosure requirements are intended to ensure that consumers know when charges will be levied for calls to toll-free numbers and are able to obtain information necessary to make informed choices about whether to purchase toll-free information services.

OMB Control Number: 3060-0749.

Title: Section 64.1509, Disclosure and Dissemination of Pay-Per-Call Information.

Form Number: N/A.

Type of Review: Extension of a currently approved collection.

Respondents: Business or other for-profit entities.

Number of Respondents: 25.

Estimated Time per Response: 410 hours.

Frequency of Response: Annual and on occasion reporting requirements; Third party disclosure.

Obligation to Respond: Required to obtain or retain benefits.

Total Annual Burden: 10,250 hours.

Total Annual Cost: None.

Nature and Extent of Confidentiality: An assurance of confidentiality is not offered because this information collection does not require the collection of personal identifiable information (PII) from individuals.

Privacy Impact Assessment: No impact(s).

Needs and Uses: Common carriers that assign telephone numbers to pay-per-call services must disclose to all interested parties, upon request, a list of all assigned pay-per-call numbers. For each assigned number, carriers must also make available: (1) A description of the pay-per-call services; (2) the total cost per minute or other fees associated with the service; and (3) the service provider's name, business address, and telephone number. In addition, carriers handling pay-per-call services must establish a toll-free number that consumers may call to receive information about pay-per-call services. Finally, the Commission requires carriers to provide statements of pay-per-call rights and responsibilities to new telephone subscribers at the time service is established and, although not required by statute, to all subscribers annually.

OMB Control Number: 3060-0752.

Title: Section 64.1510, Billing Disclosure Requirements for Pay-Per-Call and Other Information Services.

Form Number: N/A.

Type of Review: Extension of a currently approved collection.

Respondents: Business or other for-profit entities.

Number of Respondents: 1,350.

Estimated Time per Response: 10-40 hours.

Frequency of Response: Annual reporting requirements; Third party disclosure.

Obligation to Respond: Required to obtain or retain benefits.

Total Annual Burden: 27,000 hours.

Total Annual Cost: None.

Nature and Extent of Confidentiality: An assurance of confidentiality is not offered because this information collection does not require the collection of personal identifiable information (PII) from individuals.

Privacy Impact Assessment: No impact(s).

Needs and Uses: Under 47 CFR 64.1510 of the Commission's rules, telephone bills containing charges for interstate pay-per-call and other information services must include information detailing consumers' rights and responsibilities with respect to these charges. Specifically, telephone bills carrying pay-per-call charges must include a consumer notification stating that: (1) The charges are for non-communication services; (2) local and long distance telephone services may not be disconnected for failure to pay per-call charges; (3) pay-per-call (900 number) blocking is available upon request; and (4) access to pay-per-call services may be involuntarily blocked for failure to pay per-call charges. In addition, each call billed must show the type of services, the amount of the charge, and the date, time, and duration of the call. Finally, the bill must display a toll-free number which subscribers may call to obtain information about pay-per-call services. Similar billing disclosure requirements apply to charges for information services either billed to subscribers on a collect basis or accessed by subscribers through a toll-free number. The billing disclosure requirements are intended to ensure that telephone subscribers billed for pay-per-call or other information services can understand the charges levied and are informed of their rights and responsibilities with respect to payment of such charges.

Federal Communications Commission.
Marlene H. Dortch,
Secretary.

[FR Doc. E7-3522 Filed 2-28-07; 8:45 am]

BILLING CODE 6712-01-P